DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitions or any other persons showing a substantial interest in the subject matter of the investigations may request a public hearing, provided such request is filed in writing with the Director, Division of Trade Adjustment Assistance, at the address shown below, not later than June 25, 2001.

Interested persons are invited to submit written comments regarding the subject matter of the investigations to the Director, Division of Trade Adjustment Assistance, at the address shown below, not later than June 25, 2001.

The petitions filed in this case are available for inspection at the Office of the Director, Division of Trade Adjustment Assistance, Employment and Training Administration, U.S. Department of Labor, Room C-5311, 200 Constitution Avenue, NW., Washington, DC 20210.

Signed at Washington, DC this 30th day of April, 2001.
Edward A. Tomchick,
Director, Division of Trade Adjustment Assistance.

Appendix—
[Petitions instituted on 04/30/2001]
TA-W | Subject firm (Petitioners) | Location | Date of petition | Product(s)
39,107 | Crown Equipment (Wkrs) | New Bremen, OH | 04/16/2001 | TV Antenna Rotators and Controls.
39,108 | Beam-Stream, Inc (Comp) | Montpelier, OH | 04/20/2001 | Electron Guns.
39,109 | Alcoa—St. Lawrence Plt (Wkrs) | Massena, NY | 04/16/2001 | Primary Aluminum.
39,110 | Standard Register (Comp) | Rocky Mount, VA | 04/09/2001 | Business Forms.
39,111 | Price Pfister (Comp) | Pacoima, CA | 03/19/2001 | Plastic and Metal Parts.
39,112 | DuCoa, L.P. (Comp) | Verona, MO | 04/11/2001 | Calcium Mold Inhibitor.
39,113 | Petticoat Junction, Inc (UNITE) | North Bergen, NJ | 04/11/2001 | Bridesmaid Dresses.
39,114 | Carol Wren, Inc. (UNITE) | L. Island City, NY | 04/10/2001 | Ladies' Sportswear.
39,115 | Hon Company (The) (Comp) | Williamsport, PA | 04/12/2001 | Wood Office Furniture.
39,116 | Huntsman Polymers (Wkrs) | Odessa, TX | 04/11/2001 | Polymers.
39,117 | Powder Metal Products (Wkrs) | St. Marys, PA | 04/04/2001 | Bearings, Engine Parts.
39,118 | TKG International Corp (Comp) | Macon, GA | 04/13/2001 | Textile Printing Screens.
39,119 | Wire Maid Manufacturing (Comp) | Schofield, WI | 04/09/2001 | Fan Guards, Wire Formed and Welded.
39,120 | Perfect Fit Industries (Wkrs) | Richfield, NC | 04/11/2001 | Home Furnishing—Bedding Accessories.
39,121 | Titan Tire of Natchez (Wkrs) | Natchez, MS | 04/12/2001 | Trailer Tires and Industrial Tires.
39,122 | J and L Specialty Steel (USWA) | Midland, PA | 04/11/2001 | Flat Rolled Stainless Steel.
39,123 | Specialty Defense (Wkrs) | Louisville, TN | 04/12/2001 | Baby Car Seats.
39,124 | United Foundries, Inc. (IAMAW) | Youngstown, OH | 04/16/2001 | Cast Iron Rolls.
39,125 | BBA Nonwovens (PACE) | Lewisburg, PA | 04/17/2001 | Thermalbond Hygiene Roll Goods.
39,126 | Southern Tee's, Inc. (Wkrs) | Rockingham, NC | 04/12/2001 | T-Shirts.
39,127 | Trumark, Inc. (Comp) | Lansing, MI | 04/13/2001 | Stamped and Welded Assemblies.
39,128 | Delta Fashions (UNITE) | Newark, NJ | 04/11/2001 | Coats.
39,129 | International Specialty (Comp) | Edinburg, PA | 04/12/2001 | Alloys.
39,130 | ECM Motor Co (Comp) | Elkhorn WI | 04/12/2001 | Sub Fractional Gear Motors.
39,131 | Wilmot Printing Co (Wkrs) | El Paso, TX | 04/10/2001 | Commercial Printers.
39,132 | Nypro Alabama, Inc (Comp) | Dothan, AL | 04/10/2001 | Lead Acid Battery Cases, Tape Boxes.
39,133 | Ansell Protective Prod. (Comp) | Tarboro, NC | 04/12/2001 | Industrial Work Gloves.
39,134 | Williamson-Dickie Mfg (Wkrs) | Eagle Pass, TX | 04/10/2001 | Work Pants and Shorts.
39,135 | Brooke Glass Co., Inc. (Comp) | Wellsburg, WV | 04/09/2001 | Hand Made Light Fixture Shades.
39,136 | Western Electronics (Wkrs) | Eugene, OR | 04/06/2001 | Cable Connecting Assemblies.
39,137 | Weitech, Inc. (Wkrs) | Sisters, OR | 04/05/2001 | Pest Control Units
39,138 | Small Woodland Services (Comp) | Eagle Point, OR | 04/08/2001 | Performed Forestry and Resource Services.
39,139 | JDS Uniphase (Wkrs) | San Jone, CA | 04/08/2001 | Passive Components.
39,140 | Dunbrooke Industries, Inc (Comp) | Ocean Springs, MS | 04/11/2001 | Jackets.
39,141 | Textile Sales and Repair (Comp) | Gastonia, NC | 03/27/2001 | Sell Parts for Textile Machinery.
39,142 | Teamstaff (Wkrs) | El Paso, TX | 04/10/2001 | Contract Employees.
39,143 | Carolace Industries, Inc (Wkrs) | Ridgefield, NJ | 04/10/2001 | Embroidery on Schiffle Machines.
39,144 | JBF Industries, Inc. (Comp) | Gloversville, NY | 04/10/2001 | Sheep and Goat Leathers.
39,145 | Marathon Oil Company (Wkrs) | Tyler, TX | 04/06/2000 | Crude Oil.
39,146 | VF Imagewear (Comp) | Brownsville, TX | 04/06/2001 | Men's Work Clothing.
39.147 | Stainless Tank and Equip (CJA) | Cottage Grove, WI | 04/04/2001 | Stainless Tanks.
39,148 | Access Electronics (Wkrs) | Gurnee, IL | 04/09/2001 | Wire Harnesses.
39,149 | Daimler Chrysler Corp (Wkrs) | Arburn Hills, MI | 03/31/2001 | Admin. and Engineering—Automobiles.
39,150 | PSC Scanning, Inc. (Wkrs) | Eugene, OR | 04/10/2001 | Bar Code Scanners.
39,151 | Oxford Automotive, Inc. (Wkrs) | Alma, MI | 04/12/2001 | Chlorine, Caustic Soda.
39,152 | Pioneer Americas, Inc. (Comp) | Tacoma, WA | 04/12/2001 | Chlorine, Caustic Soda.
39,153 | Solon Manufacturing Co (Comp) | Rhinelander, WI | 04/09/2001 | Ice Cream Sticks.
39,154 | Jonathan Engineered (UAW) | Fullerton, CA | 04/06/2001 | Steel Slides.
39,155 | Fiera, Inc. (Wkrs) | Miami, FL | 04/11/2001 | Customer Service
39,156 | CMS Hartzell Manufacturing (IBT) | St. Paul, MN | 04/13/2001 | Motorola Products.
39,157 | Rennoc Corp, Butwin Div (Wkrs) | St. Paul, MN | 04/16/2001 | Sportswear Jackets.
39,158 | ACS Group, Inc. (Wkrs) | Windsor, CT | 04/10/2001 | Linear Extraction Robots.
39,159 | Anderson Electrical Prod (Comp) | Elkton, TN | 04/10/2001 | Electrical Products.
39,160 | Fraser Papers, Inc (Comp) | West Carrollton, OH | 04/16/2001 | Premium Printing Paper.
39,161 | Almond International (Wkrs) | Westbury, NY | 04/18/2001 | Earings, Bangles, Rings.
39,162 | ME International (Wkrs) | Duluth, MN | 04/09/2001 | Castings.
39,163 | Bridgestone/Firestone (Wkrs) | Decatur, IL | 04/17/2001 | Truck and Passenger Tires.
39,164 | Prime Cast (USWA) | South Beloit, IL | 04/12/2001 | Gray Iron Casting.

[FR Doc. 01-15044 Filed 6-13-01; 8:45 am]

BILLING CODE 4510-30-M